DEPARTMENT OF THE INTERIOR

Bureau of Land Management

[WY-040-1430-EU; WYW139343]

Notice of Decision to Terminate Exchange Proposal and Opening of Public Land; Wyoming

AGENCY: Bureau of Land Management, Interior.

ACTION: Notice.

SUMMARY: Notice is hereby given that on February 27, 2001, the Bureau of Land Management issued a decision to withdraw from and terminate a proposed land exchange, with Don C. Miner of Pagosa Springs, Colorado. This notice also terminates the temporary segregation on the lands associated with the proposed exchange, serialized as WYW139343.

EFFECTIVE DATE: March 15, 2001.

FOR FURTHER INFORMATION CONTACT: Stan McKee, Field Manager, Rock Springs Field Office, 280 Highway 191 N., Rock Springs, WY 82901-3447, 307-352-0256.

SUPPLEMENTARY INFORMATION: Pursuant to the regulations contained in 43 CFR 2091.3-2(b), at 9 a.m. on March 15, 2001, the following described lands will be relieved of the temporary segregative effect of the exchange application WYW 139343.

Sixth Principal Meridian, Wyoming

T. 12 N., R. 110 W.,

Sec. 5, N½N½SW¼NW¼, N½N½SW¼NE¼

Sec. 6, N½N½SE¼NE¼

The area described contains 30 acres in Sweetwater County.

1. At 9 a.m. on March 15, 2001, the lands will be opened to the operation of the public land laws generally, subject to valid existing rights, the provisions of existing withdrawals, and the requirements of applicable law. All valid applications received at or prior to 9 a.m. on March 19, 2001, shall be considered as simultaneously filed at that time. Those received thereafter shall be considered in the order of filing.

2. At 9 a.m. on March 15, 2001, the lands will be opened to location and entry under the United States mining laws. Appropriations of any of the lands described in this order under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights since Congress has provided for such determinations in local courts.

Dated: March 5, 2001.
Stan McKee,
Field Manager.

[FR Doc. 01-6458 Filed 3-14-01; 8:45 am]

BILLING CODE 4310-22-M